DEPARTMENT OF COMMERCE

National Oceanic and Atmospheric Administration

RIN 0648-XC033

Marine Mammals; File No. 17157

AGENCY: National Marine Fisheries Service (NMFS), National Oceanic and Atmospheric Administration (NOAA), Commerce.

ACTION: Notice; receipt of application for permit amendment.

SUMMARY: Notice is hereby given that Stephen John Trumble, Ph.D., Baylor University, 101 Bagby Ave., Waco, TX 76706, has applied for an amendment to Scientific Research Permit No. 17157-01.

DATES: Written, telefaxed, or email comments must be received on or before January 7, 2016.

ADDRESSES: The application and related documents are available for review by selecting “Records Open for Public Comment” from the Features box on the Applications and Permits for Protected Species home page, https://apps.nmfs.noaa.gov, and then selecting File No. 17157 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. 17157 in the subject line of the email comment.

Those individuals requesting a public hearing should submit a written request to the Chief, Permits and Conservation Division at the address listed above. The request should set forth the specific reasons why a hearing on this application would be appropriate.

FOR FURTHER INFORMATION CONTACT: Jennifer Skidmore or Amy Sloan, (301) 427-8401.

SUPPLEMENTARY INFORMATION: The subject amendment to Permit No. 17157-01 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 17157, issued on July 18, 2012, and amended on November 7, 2014, authorizes the receipt, import and export of up to 25 earplugs annually of each of the following species of whale: Blue (Balaenoptera musculus), sei (B. borealis), minke (B. acutorostrata), humpback (Megaptera novaeangliae), gray (Eschrichtius robustus), bowhead (Balaena mysticetus), fin (B. physalus), and sperm (Physeter macrocephalus). The samples may be obtained from natural history museums as well as from collections in Barrow, AK, of bowhead whale subsistence harvests.

The applicant is requesting an amendment to the permit to increase the number of animals that samples could be received, imported, and exported from 25 to 100 individuals annually. In addition, the applicant is requesting authorization to receive, import, and export baleen samples from blue and fin whales. No takes of live animals are or would be authorized. The permit expires on July 17, 2017.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 2, 2015.
Julia Harrison,
Chief, Permits and Conservation Division, Office of Protected Resources, National Marine Fisheries Service.

[FR Doc. 2015-30843 Filed 12-7-15; 8:45 am]

BILLING CODE 3510-22-P